DEPARTMENT OF HEALTH AND HUMAN SERVICES

Centers for Disease Control and Prevention

[60Day-04-58]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333 or send an e-mail to omb@cdc.gov. Written comments should be received within 60 days of this notice.

Proposed Project

Surveys to Determine the National Incidence of Healthcare-associated Infections and Hospital Surveillance Methods—New—National Center for Infectious Diseases (NCID), Centers for Disease Control and Prevention (CDC). Approximately 2 million hospital patients develop infections acquired while hospitalized (nosocomial infections) each year. The National Nosocomial Infections Surveillance (NNIS) system provides national data for nosocomial infections in the U.S. Currently, NNIS hospitals provide data on infections in surgical patients and patients in intensive care units (ICUs) only. Consequently, national estimates of the incidence and burden of healthcare-associated infections in all hospitalized patients are incomplete. Additionally, only about 300 of the nation's 5000 hospitals report data to NNIS, so surveillance methods at most U.S. hospitals are unknown.

This proposed project consists of two surveys. The objective of the first survey will be to estimate the total number and rate per 100 inpatient discharges of the five most common healthcare-associated infections in U.S. hospitals. The objective of the second survey is to determine surveillance methods routinely used by U.S. hospitals to monitor nosocomial infections.

The first survey (Incidence of Nosocomial Infections) will involve the use of a simplified nosocomial infections data collection instrument that includes questions covering the five most common healthcare associated infections. The survey will cover nosocomial laboratory-confirmed bloodstream infections, urinary tract infections, surgical site infections, Clostridium difficile-associated gastrointestinal infections, and pneumonia. Data will be abstracted by the hospital Infection Control Practitioner (ICP) or designee. The ICP will review the charts of 20 consecutive discharged patients on a designated day and complete a form indicating whether each met specified criteria for nosocomial infections.

The second survey (Surveillance Methods) will also be completed by a hospital ICP or designee. It will include questions on the number of personnel participating in surveillance for nosocomial infections, the types of events under surveillance, the methods used for surveillance, who the data is reported to, and preferences regarding CDC-sponsored healthcare surveillance systems.

Participation in the proposed surveys will be voluntary. A random sample of 400 U.S. hospitals registered with the American Hospital Association (AHA) would be recruited for each survey, so there will be a total of 800 respondents. A deadline for the return of the surveys will be provided, after which non-respondents will be contacted and prompted to complete the surveys. Respondents may provide data on paper forms mailed to CDC or electronically via a secure Web site.

These data will be used to estimate the total number and rate of infections per 100 inpatient discharges at U.S. hospitals as well as the site distribution of these infections. These estimates will be used by CDC and other Federal agencies to allocate resources and potentially to track rates over time. Additionally, the data will be used to better understand the methods that are used for surveillance and to improve CDC-sponsored healthcare surveillance systems.

Form | Number of respondents | Number of responses/ respondent | Average burden/ response (in hrs) | Total burden hours
Incidence of Nosocomial Infections | 400 | 20 | 10/60 | 1333
Surveillance Methods | 400 | 1 | 1 | 400
Total | 800 |  |  | 1733

In the above table, the number of respondents reflects the number of institutions, and the number of responses, reflects the number of forms completed per hospital for each survey. The burden per response is the time taken to review records and complete the appropriate form(s). The total burden is the cumulative time that would likely be taken for all respondents.

Dated: May 17, 2004.
Joe E. Salter,
Acting Director, Management Analysis and Services Office, Centers for Disease Control and Prevention.

[FR Doc. 04-12224 Filed 5-28-04; 8:45 am]

BILLING CODE 4163-18-P